DEPARTMENT OF HOMELAND SECURITY

U.S. Customs and Border Protection

Notice of Intent To Prepare Four Programmatic Environmental Impact Statements for the Northern Border Between the United States and Canada and To Conduct Public Scoping Meetings

AGENCY: U.S. Customs and Border Protection, DHS.

ACTION: Notice of Intent to Prepare Programmatic Environmental Impact Statements; Request for Comments; and Notice of Public Scoping Meetings.

SUMMARY: U.S. Customs and Border Protection (CBP) intends to prepare four Programmatic Environmental Impact Statements (PEISs) to identify and assess potential impacts upon the human environment of ongoing and potential future border security activities for the Northern Border between the United States and Canada. The anticipated area of study will extend approximately 100 miles south of the Northern Border. The four PEISs will address regions encompassing New England, the Great Lakes, states east of the Rocky Mountains, and states west of the Rocky Mountains.

This notice initiates the public scoping process for preparation of the PEISs. The purpose of the scoping process is to solicit public comments regarding the potential environmental impacts that may be addressed. This notice announces that CBP is requesting written comments and conducting public scoping meetings.

Additionally, the scoping process will allow CBP to gather information and allow the public to participate in consideration of historic preservation activities pursuant to Section 106 of the National Historic Preservation Act for activities along the Northern Border.

DATES: The scoping comment period will be 30 days beginning on the date this document is published in the Federal Register. To ensure consideration, comments must be received by August 5, 2010. Comments may be submitted as set forth in the ADDRESSES section of this document. Public scoping meetings will be held on various dates in July, 2010, as described in the ADDRESSES section of this document.

ADDRESSES: The following electronic and physical addressees are available for the public and other interested parties to provide written comments on the scope of the PEISs or to obtain additional information on the PEISs. See SUPPLEMENTARY INFORMATION for additional instructions for submitting written comments. To avoid duplication, please use only one of the following methods for providing written comments:

(a) Via the World Wide Web at: http://www.NorthernBorderPEIS.com; or

(b) Via e-mail at: comments@NorthernBorderPEIS.com; or

(c) Via mail: CBP Northern Border PEIS, P.O. Box 3625, McLean, Virginia 22102; or

(d) Via fax: (703) 760-4899.

CBP will hold public scoping meetings to obtain comments regarding the PEISs at the following locations:

• New England PEIS

(1) Augusta, ME on July 12, 2010

(2) Swanton, VT on July 13, 2010

• Great Lakes PEIS

(1) Rochester, NY on July 12, 2010

(2) Erie, PA on July 13, 2010

(3) Massena, NY on July 14, 2010

(4) Detroit, MI on July 21, 2010

• East of the Rocky Mountains PEIS

(1) Duluth, MN on July 19, 2010

(2) Minot, ND on July 21, 2010

(3) Havre, MT on July 22, 2010

• West of the Rocky Mountains PEIS

(1) Bellingham, WA on July 19, 2010

(2) Bonners Ferry, ID on July 21, 2010

CBP will announce notice of the exact locations and times of the public meetings as well as other information about PEIS process through local newspapers, media, and the project Web site: http://www.NorthernBorderPEIS.com.

FOR FURTHER INFORMATION CONTACT: Jennifer Hass, CBP, Office of Administration, telephone (202) 344-1929. You may also visit the Northern Border PEIS Web site at: http://www.NorthernBorderPEIS.com.

SUPPLEMENTARY INFORMATION:

Background

U.S. Customs and Border Protection (CBP) protects the nation's borders from terrorism, human and drug smuggling, illegal migration, and agricultural pests while simultaneously facilitating the flow of legitimate travel and trade. CBP does so by integrating modern technology, deploying highly trained law enforcement personnel, and developing public and private sector partnerships that advance its overall mission.

At 5,500 miles in length, the Northern Border of the United States stands as the longest common border in the world. The terrain ranges from densely forested lands on the west and east coasts to open plains in the middle of the country. To complement its efforts, CBP uses partnerships with other Federal, state, and local law enforcement agencies to meet the challenges of ensuring security while facilitating legitimate trade and travel along this expansive and complex border area.

CBP leverages technology and partnerships to detect cross border incursions between the Ports of Entry (POEs) and, when necessary due to distances or challenging terrain, CBP uses an array of tools in interdiction efforts. At the POEs, CBP uses state of the art technology to efficiently screen the heavy volume of passengers and cargo transiting the U.S./Canada border to ensure that no illicit goods or travelers cross into the United States.

Throughout the next five to seven years, CBP anticipates that it will implement enhancements to its border security activities. These may include installing or enhancing sensing equipment networks; changing patrol levels and areas; improving relationships among partner law enforcement agencies; increasing manned and unmanned aerial and maritime surveillance activities; improving cargo scanning techniques; developing and using enhanced communication technologies; and enhancing comprehensive response, interdiction, and detention capabilities. CBP may use, maintain, upgrade, or deploy various physical facilities and infrastructure, including, POEs, checkpoints, stations, water and power utilities, roads, hangers and helipads, boat ramps and docks, kennels, and communication and surveillance systems towers. Vehicles used by CBP may include ATVs, snowmobiles, marine vessels, and aircraft. CBP plans to deploy the most appropriate mix of security enhancement measures for the Northern Border based on the threat and on the constraints of the operating environment.

In support of CBP's mission and with an interest in understanding the array of environmental considerations along the border, CBP intends to prepare four Programmatic Environmental Impact Statements (PEISs) to analyze the environmental effects of current and potential future CBP border security activities along the Northern Border between the United States and Canada. CBP will prepare draft PEISs initially, to be followed, after a period of public comment, with final PEISs. Because this effort is “programmatic” in nature, the study will not seek to define effects for a specific or planned action. Instead, it will analyze the overall effects of activities supporting the homeland security mission of CBP.

Purpose and Area of Study

CBP will use the PEISs to improve planning of future actions to meet its homeland security requirements. CBP plans to evaluate the potential environmental effects of its activities conducted along the Northern Border between the United States and Canada, including an anticipated area of study extending approximately 100 miles south of the Northern Border. Because of the diversity of conditions from east to west, CBP intends to prepare four regional PEISs, covering the border environment for the following areas:

(1) New England region (Maine, New Hampshire, and Vermont)

(2) Great Lakes region (New York, Pennsylvania, Ohio, Michigan, and Wisconsin)

(3) East of the Rocky Mountains region (Minnesota, North Dakota, and eastern Montana)

(4) West of the Rocky Mountains region (western Montana, Idaho and Washington)

CBP plans to use the information derived from the analysis in the PEISs in management, planning, and decision-making for its mission and its environmental stewardship responsibilities, as well as to establish a foundation for future impact analyses.

Public Scoping Process

This notice initiates the public scoping process in preparation of the PEISs. All interested parties are invited to participate in the scoping process. CBP invites agencies, organizations, and the general public to provide input to this process of scoping environmental issues for consideration in the PEISs. CBP welcomes input on potentially significant environmental issues associated with the uses of technologies, facilities, infrastructure, and personnel for border security described above in the Background section or other connected actions to be addressed in the PEISs. Comments may be in terms of broad areas or restricted to specific areas of concern. Written comments may be submitted as described in the ADDRESSES section of this document. When submitting comments, please identify the region or PEIS of concern to which your comments are related, as well as your name and address. Respondents may request to withhold names or street addresses, except for city or town, from public view or from disclosure under the Freedom of Information Act. Such a request must be stated prominently at the beginning of the comment. Such requests will be honored to the extent allowed by law. This request to withhold personal information does not apply to submissions from organizations or businesses, or from individuals identifying themselves as representatives or officials of organizations or businesses.

As part of the scoping process, CBP will hold 11 public scoping meetings. The purpose of these meetings is to obtain input concerning the range of environmental considerations for inclusion within the PEISs. These meetings will be held at locations near the Northern Border in the early evening at the locations listed under ADDRESSES above. The public is encouraged to communicate information and comments on issues it believes CBP should address in the PEISs. CBP will announce notice of the exact locations and times of the public meetings as well as other information about its Northern Border security activities through local newspapers, media, and the project Web site: http://www.NorthernBorderPEIS.com.

After the public scoping period is complete and CBP has reviewed the results, a compilation list of comments will be included in a scoping report, which will be made available on the project Web site: http://www.NorthernBorderPEIS.com. This report will not identify individual citizens' comments by name or address. The report will also be made available upon written request.

Public Involvement in Historic Preservation Activities Under Section 106 of the National Historic Preservation Act

Section 106 of the National Historic Preservation Act (16 U.S.C. 470f) requires Federal agencies to review all actions which may affect resources listed on, or eligible for, the National Register of Historic Places in order to take into account the effects of their undertakings on historic properties and to afford the Advisory Council on Historic Preservation (ACHP) a reasonable opportunity to comment on such undertakings. During the scoping process, CBP plans to gather information and allow the public to express views regarding the effects of CBP programs on cultural resources. During the process of public scoping and preparation of the PEISs for the Northern Border, CBP seeks to identify interested parties and obtain public comments on historic preservation issues related to CBP activities along the Northern Border.

Next Steps

This process is being conducted pursuant to NEPA, the Council on Environmental Quality Regulations for Implementing the NEPA (40 CFR parts 1500-1508), and Department of Homeland Security Directive 023-01 (renumbered from 5100.1), Environmental Planning Program of April 19, 2006. CBP will continue to announce information on exact locations and times of public meetings as well as project information through local newspapers and the project Web site: http://www.NorthernBorderPEIS.com. In accordance with NEPA, the draft PEISs will be made available to the public for review and comment through a Notice of Availability (NOA) in the Federal Register. The NOA will provide directions for obtaining copies of the draft PEISs as well as dates and locations for any associated public participation meetings. After a public comment period on the draft PEIS, CBP will complete a final PEIS.

Dated: June 30, 2010.
Gregory Giddens,
Executive Director, Facilities Management and Engineering, Office of Administration.

[FR Doc. 2010-16392 Filed 7-2-10; 8:45 am]

BILLING CODE 9111-14-P